DEPARTMENT OF ENERGY

Federal Energy Regulatory Commission

[Docket No. ES00-36-001]

Electric Energy, Inc.; Notice of Filing

May 24, 2000.

Take notice that on May 18, 2000, Electric Energy, Inc. (EEInc.) filed an amendment to its application seeking authorization to issue from time to time during the period from June 1, 2000 through May 31, 2002 (a) up to $120 million of new long-term debt with a maturity of up to 15 years, and (b) new short-term debt with the aggregate amount outstanding at any time not to exceed $70 million. EEInc. requests that such authorization be granted instead for a period from June 15, 2000, through June 14, 2002. In addition, EEInc. modified its application to reflect the possibility that the final terms of issuance may be somewhat different from those described in the application. EEInc. requests that a revised page 5 be substituted for that previously submitted with the original application to this proceeding.

Any person desiring to be heard or to protest such filing should file a motion to intervene or protest with the Federal Energy Regulatory Commission, 888 First Street, N.E., Washington, DC 20426, in accordance with Rules 211 and 214 of the Commission's Rules of Practices and Procedure (18 CFR 385.211 and 385.214). All such motions and protests should be filed on or before June 7, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14123 Filed 6-5-00; 8:45 am]

BILLING CODE 6717-01-M